FEDERAL COMMUNICATIONS COMMISSION

[DA 25-1009; FR ID 322148]

Notice Debarment; Federal Lifeline Program

AGENCY: Federal Communications Commission.

ACTION: Notice.

SUMMARY: The Enforcement Bureau (the “Bureau”) permanently debars Q Link from the federal Lifeline program (Lifeline Program) and all federal universal service support mechanisms.

DATES: Debarment commences on the date Q Link receives the debarment letter or December 15, 2025, whichever date comes first.

ADDRESSES: Federal Communications Commission, Enforcement Bureau, Investigations and Hearings Division, 45 L Street NE, Washington, DC 20554.

FOR FURTHER INFORMATION CONTACT: Christopher Sova, Federal Communications Commission, Enforcement Bureau, Investigations and Hearings Division, 45 L Street NE, Washington, DC 20554. Christopher Sova may be contacted by phone at (202) 418-1868 or by email at Christopher.Sova@fcc.gov.

SUPPLEMENTARY INFORMATION: The Bureau debars Q Link from the federal Lifeline Program and all federal universal service support mechanisms pursuant to 47 CFR 54.8. Attached is the debarment letter, DA 25-1009, which was mailed to Q Link and released on December 15, 2025. The complete text of the notice of debarment is available on the FCC's website at https://docs.fcc.gov/public/attachments/DA-25-1009A1.pdf.

Federal Communications Commission.
Christopher Sova,
Chief, Investigations and Hearings Division, Enforcement Bureau.

December 5, 2025

DA 25-1009

SENT VIA CERTIFIED MAIL, RETURN RECEIPT REQUESTED

Mr. Issa Asad Owner, Quadrant Holdings Group LLC (for Q Link Wireless, LLC) 499 E Sheridan St., Ste 400 Dania, FL 33004 issa@quadrantholdings.com

Samuel L. Feder, Esq. Jenner & Block LLP 1099 New York Avenue NW Suite 900 Washington, DC 20001 SFeder@jenner.com

Re: Notice of Debarment, File No. EB-IHD-24-00037461

Dear Messrs. Asad and Feder:

The Enforcement Bureau (Bureau) of the Federal Communications Commission (Commission or FCC) hereby notifies Q Link Wireless, LLC (Q Link or Company) that, pursuant to Section 54.8 of the Commission's rules, Q Link is prohibited from participating in activities associated with or related to the federal Lifeline program (Lifeline program) and any other program funded by federal universal service support mechanisms commencing on either the date of Q Link's receipt of this Notice of Debarment or of its publication in the Federal Register, whichever comes first (Debarment Date).¹ Furthermore, as a condition of the administrative settlement between the FCC and Mr. Asad, Q Link Wireless LLC (Q Link) and Q Link's parent company, Quadrant Holdings Group, LLC, (Quadrant) which was entered into on January 17, 2025 (Administrative Settlement),² Mr. Asad and Q Link ceased participating in any program administered by the FCC (in addition to the universal service programs) and agreed to debarment from participation in all such programs in the future.³

¹ 47 CFR 54.8 (e), (g); 47 CFR 0.111 (delegating to the Bureau authority to resolve universal service suspension and debarment proceedings). In 2007, the Commission extended the debarment rules to apply to all federal universal service support mechanisms, including the Lifeline program. See Comprehensive Review of the Universal Service Fund Management, Administration, & Oversight, Report and Order, 22 FCC Rcd 16372, 16410-12 (2007) (Program Management Order) (renumbering Section 54.521 of the universal service debarment rules as Section 54.8 and amending subsections (a)(1), (a)(5), (c), (d), (e)(2)(i), (e)(3), (e)(4), and (g)).

² Settlement Agreement, Federal Communications Commission, Q Link Wireless LLC, Issa Asad, and Quadrant Holdings Group LLC (Jan. 17, 2025) (on file in EB-IHD-24-00037461) (Administrative Settlement).

³ See United States v. Q Link Wireless LLC, Criminal Docket No. 1:24-cr-20363-RAR, Issa Asad's Sentencing Memo, at 1 (S.D. Fla., filed Jul. 17, 2025) (referencing Asad and Q Link's agreement in the Administrative Settlement to cease being federal telecommunication providers).

On November 8, 2024, the Bureau sent Q Link a notice of suspension and initiation of debarment proceeding (Notice of Suspension) that was published in the Federal Register on December 12, 2024.⁴ The Notice of Suspension suspended Q Link from participating in or receiving any benefit associated with the Lifeline program as well as any other program funded by federal universal service support mechanisms.⁵ It also described the basis for initiating the debarment proceeding against Q Link, the applicable debarment procedures, and the effect of debarment.⁶

⁴ Letter from Christopher J. Sova, Chief, Investigations and Hearings Division, FCC Enforcement Bureau, to Issa Asad, Chief Executive Officer, Q Link Wireless LLC, Notice of Suspension and Initiation of Debarment Proceeding, 89 FR 100487 (Dec. 12, 2024).

⁵ Id.

⁶ Id.

As discussed in the Notice of Suspension, on October 15, 2024, Q Link, in connection with fraudulent claims against the Lifeline program, pleaded guilty to one count of conspiring to commit offenses against the United States, specifically, a violation of 18 U.S.C. 1343 (wire fraud), a violation of 18 U.S.C. 641 (theft of government funds), and defrauding the United States, all in violation of 18 U.S.C. 371.⁷ Between 2013 and 2019, Q Link received $618,736,494 from the Lifeline program.⁸ At least 21 percent of Q Link's payments during this period were due to its fraudulent scheme.⁹ Pursuant to Section 54.8(c) of the Commission's rules, Q Link's conviction of criminal conduct in connection with the Lifeline program is the basis for this debarment.¹⁰

⁷ Any further reference in this letter to “conviction” refers to Q Link's guilty plea agreement and factual proffer in United States v. Q Link Wireless LLC, Criminal Docket No. 1:24-cr-20363-RAR, Plea Agreement (S.D. Fla., filed Oct. 15, 2024). See also Lifeline and Link Up Reform and Modernization, WC Docket No. 11-42, CC Docket No. 96-45, WC Docket No. 03-109, Report and Order and Further Notice of Proposed Rulemaking, 27 FCC Rcd 6656 (2012).

⁸ United States v. Q Link Wireless LLC, Criminal Docket No. 1:24-cr-20363-RAR, Factual Proffer, at 6 (S.D. Fla., filed Oct. 15, 2024).

⁹ Id.

¹⁰ 47 CFR 54.8(c).

Furthermore, on January 17, 2025, Q Link entered into the Administrative Settlement, paragraph 15 of which provides as follows:

Q Link and Mr. Asad warrant that consistent with the Suspension Notices and the Commission's suspension rules (47 CFR 54.8), Q Link and Mr. Asad have ceased participation in any program administered by the FCC, and the Companies agree that Q Link and Mr. Asad will not participate in any such programs administered by the Commission in the future. Consistent with this representation, Q Link and Mr. Asad agree not to contest their suspensions and proposed debarments under the Suspension Notices and agree to waive all rights under the Commission's Rules to challenge the suspensions and proposed debarments. The Companies also warrant that upon execution of this Agreement, Quadrant, and all other related companies, affiliates or subsidiaries, and any other company in which Mr. Asad has a controlling ownership interest will have ceased participating in any program administered by the FCC (including the receipt of any benefit associated with any such programs) and will not participate in such any programs administered by the FCC in the future.¹¹

¹¹ Administrative Settlement at 13-14, para 15.

In accordance with the Commission's debarment rules, Q Link was required to file with the Commission any opposition to the suspension or its scope, or to the proposed debarment or its scope, no later than 30 calendar days from either the date of Q Link's receipt of the Notice of Suspension or of its publication in the Federal Register, whichever date occurred first.¹² The Commission received no opposition from Q Link, and in fact Q Link agreed in the Administrative Settlement not to contest the suspension or debarment.¹³

¹² 47 CFR 54.8 (e)(3)-(4). Any opposition had to be filed no later than January 13, 2025.

¹³ See Administrative Settlement at 13-14, para 15.

For the above reasons, Q Link is debarred from involvement with the Lifeline program and any other program funded by federal universal service support mechanisms, as well as any other program administered by the FCC, as of the Debarment Date.¹⁴ Q Link is excluded from participating in any activities associated with or related to the Lifeline program and any other program funded by federal universal service support mechanisms, as well as any other program administered by the FCC, including the receipt of funds or discounted services through the Lifeline program or any other program administered by the FCC, or consulting with, assisting, or advising applicants or service providers regarding any such programs.¹⁵ After review of the record (including the terms of the Administrative Settlement) and due to the egregious nature of these fraudulent activities that led to Q Link's criminal conviction, the Commission has determined that this debarment will be permanent.

¹⁴ 47 CFR 54.8(g). Pursuant to the Administrative Settlement, as noted, Q Link voluntarily agreed to be debarred permanently from involvement in any program administered by the FCC. Administrative Settlement at 13-14, para 15.

¹⁵ 47 CFR 54.8(a)(1), (d), (g).

Sincerely yours,

Christopher J. Sova,

Chief, Investigations and Hearings Division Enforcement Bureau.

cc: Fred Theobald, Universal Service Administrative Company (via email)

Matthew Menchel, Esq., Kobre & Kim LLP (via email)

Michael Sherwin, Esq., Kobre & Kim LLP (via email)

Evelyn Sheehan, Esq., Kobre & Kim LLP (via email)

Michele Ellison, Deputy General Counsel, FCC

Karen Onyeije, Deputy General Counsel, FCC

[FR Doc. 2025-22832 Filed 12-12-25; 8:45 am]

BILLING CODE 6712-01-P